DEPARTMENT OF ENERGY

Federal Energy Regulatory Commission

Combined Notice of Filings #1

Take notice that the Commission received the following electric corporate filings:

Docket Numbers: EC22-86-000.

Applicants: AZ Solar 1, LLC, FL Solar 1, LLC, FL Solar 4, LLC, GA Solar 3, LLC, Grand View PV Solar Two LLC, MS Solar 3, LLC, Sweetwater Solar, LLC, Three Peaks Power, LLC, Twiggs County Solar, LLC, Onward Atlas HoldCo, LLC.

Description: Onward Atlas HoldCo, LLC submits Response to Deficiency Letter Dated September 8, 2022.

Filed Date: 9/21/22.

Accession Number: 20220921-5126.

Comment Date: 5 p.m. ET 10/12/22.

Docket Numbers: EC22-98-000.

Applicants: NaturEner Glacier Wind Energy 1, LLC, NaturEner Glacier Wind Energy 2, LLC, NaturEner Power Watch, LLC, NaturEner Rim Rock Wind Energy, LLC, NaturEner Wind Watch, LLC, Berkshire Hathaway Energy Company.

Description: Supplement to August 2, 2022, Joint Application for Authorization Under Section 203 of the Federal Power Act of NaturEner Glacier Wind Energy 1, LLC, et al.

Filed Date: 9/27/22.

Accession Number: 20220927-5140.

Comment Date: 5 p.m. ET 10/4/22.

Docket Numbers: EC22-127-000; EC21-2-000.

Applicants: Desert Harvest II LLC, Desert Harvest, LLC, Milligan 1 Wind LLC, BigBeau Solar LLC, Milligan 1 Wind LLC.

Description: Joint Application for Authorization Under Section 203 of the Federal Power Act of BigBeau Solar LLC, et al.

Filed Date: 9/26/22.

Accession Number: 20220926-5226.

Comment Date: 5 p.m. ET 10/17/22.

Take notice that the Commission received the following electric rate filings:

Docket Numbers: ER22-2089-002.

Applicants: Alabama Power Company, Georgia Power Company, Mississippi Power Company.

Description: Tariff Amendment: Alabama Power Company submits tariff filing per 35.17(b): Second Supplement to Origis Development (Thalmann 1 Solar & Battery) LGIA Filing to be effective 6/1/2022.

Filed Date: 9/28/22.

Accession Number: 20220928-5111.

Comment Date: 5 p.m. ET 10/19/22.

Docket Numbers: ER22-2463-000.

Applicants: Hillcrest Solar I, LLC.

Description: ALJ Settlement: Settlement rates July 2022 to be effective 7/29/2021.

Filed Date: 7/22/22.

Accession Number: 20220722-5096.

Comment Date: 5 p.m. ET 10/5/22.

Docket Numbers: ER22-2577-001.

Applicants: Alabama Power Company, Georgia Power Company, Mississippi Power Company.

Description: Tariff Amendment: Alabama Power Company submits tariff filing per 35.17(b): Supplement to Montgomery Solar (Solar & Storage) LGIA Filing to be effective 7/18/2022.

Filed Date: 9/28/22.

Accession Number: 20220928-5115.

Comment Date: 5 p.m. ET 10/19/22.

Docket Numbers: ER22-2579-001.

Applicants: Georgia Power Company, Mississippi Power Company, Alabama Power Company.

Description: Tariff Amendment: Alabama Power Company submits tariff filing per 35.17(b): Supplement to Dothan Solar (Solar & Storage) LGIA Filing to be effective 7/18/2022.

Filed Date: 9/28/22.

Accession Number: 20220928-5114.

Comment Date: 5 p.m. ET 10/19/22.

Docket Numbers: ER22-2942-000.

Applicants: Endeavor Wind II, LLC.

Description: Baseline eTariff Filing: Rate Schedule FERC No. 1 Reactive Power Compensation to be effective 10/31/2022.

Filed Date: 9/28/22.

Accession Number: 20220928-5004.

Comment Date: 5 p.m. ET 10/19/22.

Docket Numbers: ER22-2943-000.

Applicants: Midcontinent Independent System Operator, Inc.

Description: § 205(d) Rate Filing: 2022-09-28_Hybrid Resource Forecasting as DIR to be effective 11/28/2022.

Filed Date: 9/28/22.

Accession Number: 20220928-5043.

Comment Date: 5 p.m. ET 10/19/22.

Docket Numbers: ER22-2944-000.

Applicants: SBR Energy, LLC.

Description: Notice of Cancellation of Market Based Rate Tariff of SBR Energy LLC.

Filed Date: 9/27/22.

Accession Number: 20220927-5146.

Comment Date: 5 p.m. ET 10/18/22.

Docket Numbers: ER22-2945-000.

Applicants: PJM Interconnection, L.L.C.

Description: § 205(d) Rate Filing: ISA, SA No. 6606 and ICSA, SA No. 6607; Queue No. AD1-022 to be effective 8/31/2022.

Filed Date: 9/28/22.

Accession Number: 20220928-5071.

Comment Date: 5 p.m. ET 10/19/22.

Docket Numbers: ER22-2946-000.

Applicants: Red Oak Power, LLC.

Description: Baseline eTariff Filing: Baseline new reactive tariff to be effective 10/1/2022.

Filed Date: 9/28/22.

Accession Number: 20220928-5072.

Comment Date: 5 p.m. ET 10/19/22.

Docket Numbers: ER22-2947-000.

Applicants: Midcontinent Independent System Operator, Inc.

Description: § 205(d) Rate Filing: 2022-09-28_SA 3436 Entergy Mississippi-Ragsdale Solar 1st Rev GIA (J830) to be effective 9/16/2022.

Filed Date: 9/28/22.

Accession Number: 20220928-5092.

Comment Date: 5 p.m. ET 10/19/22.

Docket Numbers: ER22-2949-000.

Applicants: American Electric Power Service Corporation, Indiana Michigan Power Company, AEP Indiana Michigan Transmission Company, Inc., PJM Interconnection, L.L.C.

Description: § 205(d) Rate Filing: American Electric Power Service Corporation submits tariff filing per 35.13(a)(2)(iii: AEP submits one Facilities Agreement re: ILDSA, SA No. 5677 to be effective 11/28/2022.

Filed Date: 9/28/22.

Accession Number: 20220928-5117.

Comment Date: 5 p.m. ET 10/19/22.

Docket Numbers: ER22-2950-000.

Applicants: Vitol PA Wind Marketing LLC.

Description: Baseline eTariff Filing: Baseline new to be effective 9/29/2022.

Filed Date: 9/28/22.

Accession Number: 20220928-5133.

Comment Date: 5 p.m. ET 10/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2022.
Debbie-Anne A. Reese,
Deputy Secretary.

[FR Doc. 2022-21470 Filed 10-3-22; 8:45 am]

BILLING CODE 6717-01-P